DEPARTMENT OF HOMELAND SECURITY

Federal Emergency Management Agency

[Docket ID FEMA-2023-0002; Internal Agency Docket No. FEMA-B-2382]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kevin Werner,
Assistant Administrator for Risk Management (Acting), Federal Emergency Management Agency, Department of Homeland Security.

State and county | Location and case No. | Chief executive officer of community | Community map repository | Online location of letter of map revision | Date of modification | Community No.
Arkansas:
Benton | City of Bentonville (22-06-2867P). | The Honorable Stephanie Orman, Mayor, City of Bentonville, 305 Southwest A Street, Bentonville, AR 72712. | Public Works Department, 3200 Southwest Municipal Drive, Bentonville, AR 72712. | https://msc.fema.gov/portal/advanceSearch. | Dec. 29, 2023 | 050012
Benton | City of Centerton (22-06-2867P). | The Honorable Bill Edwards, Mayor, City of Centerton, 200 Municipal Drive, Centerton, AR 72719. | Planning and Development Department, 200 Municipal Drive, Centerton, AR 72719. | https://msc.fema.gov/portal/advanceSearch. | Dec. 29, 2023 | 050399
Colorado: Boulder | City of Boulder (22-08-0838P). | The Honorable Aaron Brockett, Mayor, City of Boulder, 1777 Broadway Street, Boulder, CO 80302. | Municipal Building, 1777 Broadway Street, Boulder, CO 80302. | https://msc.fema.gov/portal/advanceSearch. | Dec. 18, 2023 | 080024
Florida:
Hillsborough | Unincorporated areas of Hillsborough County (23-04-2315P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Jan. 18, 2024 | 120112
Hillsborough | Unincorporated areas of Hillsborough County (23-04-2913P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Jan. 18, 2024 | 120112
Monroe | Unincorporated areas of Monroe County (23-04-4347P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Dec. 15, 2023 | 125129
Orange | City of Orlando (23-04-1723P). | The Honorable Buddy Dyer, Mayor, City of Orlando, 400 South Orange Avenue, Orlando, FL 32801. | Public Works Department Engineering Division, 400 South Orange Avenue, 8th Floor Orlando, FL 32801. | https://msc.fema.gov/portal/advanceSearch. | Dec. 18, 2023 | 120186
Osceola | City of St. Cloud (22-04-4332P). | Veronica Miller, Manager, City of St. Cloud, 1300 9th Street, St. Cloud, FL 34769. | Building Department, Building A, 1300 9th Street, St. Cloud, FL 34769. | https://msc.fema.gov/portal/advanceSearch. | Dec. 20, 2023 | 120191
Palm Beach | Unincorporated areas of Palm Beach County (22-04-4645P). | Verdenia Baker, Palm Beach County Administrator, 301 North Olive Avenue, 11th Floor, West Palm Beach, FL 33401. | Palm Beach County Building Division, Planning, Zoning and Building Department, Vista Center, 1st Floor, Room 1E-17, 2300 North Jog Road, West Palm Beach, FL 33411. | https://msc.fema.gov/portal/advanceSearch. | Dec. 11, 2023 | 120192
Sarasota | Unincorporated areas of Sarasota County (23-04-0451P). | Ron Cutsinger, Chair, Sarasota County Board of Commissioners, 1660 Ringling Boulevard, Sarasota, FL 34236. | Sarasota County Planning and Development Services Department, 1001 Sarasota Center Boulevard, Sarasota, FL 34240. | https://msc.fema.gov/portal/advanceSearch. | Dec. 14, 2023 | 125144
Sumter | City of Wildwood (23-04-2289P). | The Honorable Ed Wolf, Mayor, City of Wildwood, 100 North Main Street, Wildwood, FL 34785. | City Hall, 100 North Main Street, Wildwood, FL 34785. | https://msc.fema.gov/portal/advanceSearch. | Dec. 22, 2023 | 120299
Sumter | Unincorporated areas of Sumter County (23-04-2289P). | Craig A. Estep, Chair, Sumter County Board of Commissioners, 7375 Powell Road, Wildwood, FL 34785. | Sumter County Administration, 7375 Powell Road, Wildwood, FL 34785. | https://msc.fema.gov/portal/advanceSearch. | Dec. 22, 2023 | 120296
Volusia | City of Daytona Beach (23-04-1622P). | Deric C. Feacher, Manager, City of Daytona Beach, 301 South Ridgewood Avenue, Daytona Beach, FL 32114. | Utilities Department, 125 Basin Street, Daytona Beach, FL 32114. | https://msc.fema.gov/portal/advanceSearch. | Jan. 15, 2024 | 125099
Volusia | Unincorporated areas of Volusia County (23-04-1622P). | George Recktenwald, Manager, Volusia County, 123 West Indiana Avenue, DeLand, FL 32720. | Thomas C. Kelly Administration Center, 123 West Indiana Avenue, DeLand, FL 32720. | https://msc.fema.gov/portal/advanceSearch. | Jan. 15, 2024 | 125155
Georgia: Cobb | City of Kennesaw (23-04-1243P). | The Honorable Derek Easterling, Mayor, City of Kennesaw, 2529 J.O. Stephenson Avenue, Kennesaw, GA 30144. | City Hall, 2529 J.O. Stephenson Avenue, Kennesaw, GA 30144. | https://msc.fema.gov/portal/advanceSearch. | Dec. 11, 2023 | 130055
Kentucky: Fayette | Lexington-Fayette Urban County Government (23-04-1858P). | The Honorable Linda Gorton, Mayor, Lexington-Fayette Urban County Government, 200 East Main Street, Lexington, KY 40507. | Engineering Department, 101 East Vine Street, 4th Floor, Lexington, KY 40507. | https://msc.fema.gov/portal/advanceSearch. | Jan. 4, 2024 | 210067
Maryland: Frederick | Unincorporated areas of Frederick County (23-03-0887P). | The Honorable Jessica Fitzwater, Frederick County Executive, 12 East Church Street, Frederick, MD 21701. | Frederick County Division of Planning and Permitting, 30 North Market Street, Frederick, MD 21701. | https://msc.fema.gov/portal/advanceSearch. | Dec. 27, 2023 | 240027
Massachusetts: Plymouth | Town of Duxbury (23-01-0101P). | René J. Read, Town of Duxbury Manager, 878 Tremont Street, Duxbury, MA 02332. | Town Hall, 878 Tremont Street, Duxbury, MA 02332. | https://msc.fema.gov/portal/advanceSearch. | Jan. 4, 2024 | 250263
North Carolina:
Alamance | Unincorporated areas of Alamance County (23-04-2547P). | John Paisley, Chair, Alamance County Board of Commissioners, 124 West Elm Street, Graham, NC 27253. | Alamance County Planning Department, 201 West Elm Street, Graham, NC 27253. | https://msc.fema.gov/portal/advanceSearch. | Jan. 19, 2024 | 370001
Buncombe | Unincorporated areas of Buncombe County (23-04-1182P). | Brownie Newman, Chair, Buncombe County Board of Commissioners, 200 College Street, Suite 300, Asheville, NC 28801. | Buncombe County Planning and Development Department, 46 Valley Street, Asheville, NC 28801. | https://msc.fema.gov/portal/advanceSearch. | Nov. 10, 2023 | 370031
Oklahoma: Oklahoma | City of Oklahoma City (23-06-0313P). | The Honorable David Holt, Mayor, City of Oklahoma City, 200 North Walker Avenue, 3rd Floor, Oklahoma City, OK 73102. | Public Works Department, 420 West Main Street, Suite 700, Oklahoma City, OK 73102. | https://msc.fema.gov/portal/advanceSearch. | Dec. 8, 2023 | 405378
Texas:
Atascosa | City of Pleasanton (23-06-0894P). | The Honorable Clinton J. Powell, Mayor, City of Pleasanton, P.O. Box 209, Pleasanton, TX 78064. | Engineering Department, 108 2nd Street, Pleasanton, TX 78064. | https://msc.fema.gov/portal/advanceSearch. | Dec. 7, 2023 | 480015
Brazos | City of Bryan (22-06-2814P). | The Honorable Bobby Gutierrez, Mayor, City of Bryan, P.O. Box 1000, Bryan, TX 77805. | City Hall, 300 South Texas Avenue, Bryan, TX 77803. | https://msc.fema.gov/portal/advanceSearch. | Dec. 6, 2023 | 480082
Collin and Denton | City of Frisco (22-06-2393P). | The Honorable Jeff Cheney, Mayor, City of Frisco, 6101 Frisco Square Boulevard, Frisco, TX 75034. | Development Engineers Department, 6101 Frisco Square Boulevard, Frisco, TX 75034. | https://msc.fema.gov/portal/advanceSearch. | Jan. 16, 2024 | 480134
Collin | City of Plano (23-06-1026P). | The Honorable John B. Muns, Mayor, City of Plano, 1520 K Avenue, Suite 250, Plano, TX 75074. | Engineering Department, 1520 K Avenue, Plano, TX 75074. | https://msc.fema.gov/portal/advanceSearch. | Jan. 16, 2024 | 480140
Denton | City of Fort Worth (23-06-0279P). | The Honorable Mattie Parker, Mayor, City of Fort Worth, 200 Texas Street, Fort Worth, TX 76102. | Transportation and Public Works, Engineering Vault, 200 Texas Street, Fort Worth, TX 76102. | https://msc.fema.gov/portal/advanceSearch. | Jan. 5, 2024 | 480596
Denton | Unincorporated areas of Denton County (23-06-0279P). | The Honorable Andy Eads, Denton County Judge, 1 Courthouse Drive, Suite 3100, Denton, TX 76208. | Denton County Hall, 1 Courthouse Drive, Denton, TX 76208. | https://msc.fema.gov/portal/advanceSearch. | Jan. 5, 2024 | 480774
Grayson | Unincorporated areas of Grayson County (23-06-0018P). | The Honorable Bruce Dawsey, Grayson County Judge, 100 West Houston Street, Sherman, TX 75090. | Grayson County Development Services/Floodplain Management, 100 West Houston Street, Suite G-1, Sherman, TX 75090. | https://msc.fema.gov/portal/advanceSearch. | Jan. 3, 2024 | 480829
Johnson | City of Godley (23-06-0207P). | The Honorable Acy Mcgehee, Mayor, City of Godley, 200 West Railroad Street, Godley, TX 76044. | City Hall, 104 South Main Street, Godley, TX 76044. | https://msc.fema.gov/portal/advanceSearch. | Jan. 2, 2024 | 480880
Kaufman | City of Forney (23-06-0547P). | Charles W. Daniels, City of Forney Manager, P.O. Box 826, Forney, TX 75126. | City Hall, 101 East Main Street, Forney, TX 75126. | https://msc.fema.gov/portal/advanceSearch. | Dec. 15, 2023 | 480410
Kaufman | Unincorporated areas of Kaufman County (23-06-0547P). | The Honorable Jakie Allen, Kaufman County Judge, 1902 East U.S. Highway 175, Kaufman, TX 75142. | Kaufman County Development Services Department, 106 West Grove Street, Kaufman, TX 75142. | https://msc.fema.gov/portal/advanceSearch. | Dec. 15, 2023 | 480411
Rockwell | City of Fate (23-06-2327X). | The Honorable David Billings, Mayor, City of Fate, 1900 C.D. Boren Parkway, Fate, TX 75087. | City Hall, 1900 C.D. Boren Parkway, Fate, TX 75087. | https://msc.fema.gov/portal/advanceSearch. | Jan. 22, 2024 | 480544
Tarrant | City of Fort Worth (23-06-0331P). | The Honorable Mattie Parker, Mayor, City of Fort Worth, 200 Texas Street, Fort Worth, TX 76102. | Transportation and Public Works, Engineering Vault, 200 Texas Street, Fort Worth, TX 76102. | https://msc.fema.gov/portal/advanceSearch. | Dec. 11, 2023 | 480596
Tarrant | Unincorporated areas of Tarrant County (23-06-0331P). | The Honorable Tim O'Hare, Tarrant County Judge, 100 East Weatherford Street, Suite 501, Fort Worth, TX 76196. | Tarrant County Administration Building, 100 East Weatherford Street, Suite 501, Fort Worth, TX 76196. | https://msc.fema.gov/portal/advanceSearch. | Dec. 11, 2023 | 480582
Travis | City of Pflugerville (23-06-0568P). | The Honorable Victor Gonzales, Mayor, City of Pflugerville, P.O. Box 589, Pflugerville, TX 78691. | Planning and Development Services Department, 100 West Main Street, Pflugerville, TX 78691. | https://msc.fema.gov/portal/advanceSearch. | Dec. 18, 2023 | 481028
Victoria | City of Victoria (22-06-2362P). | The Honorable Jeff Bauknight, Mayor, City of Victoria, P.O. Box 1758, Victoria, TX 77901. | Victoria County Courthouse, 101 North Bridge Street, Victoria, TX 77901. | https://msc.fema.gov/portal/advanceSearch. | Jan. 8, 2024 | 480638
Victoria | Unincorporated areas of Victoria County (22-06-2362P). | The Honorable Ben Zeller, Victoria County Judge, 101 North Bridge Street, Room 102, Victoria, TX 77901. | Victoria County Courthouse, 101 North Bridge Street, Victoria, TX 77901. | https://msc.fema.gov/portal/advanceSearch. | Jan. 8, 2024 | 480637

[FR Doc. 2023-24338 Filed 11-2-23; 8:45 am]

BILLING CODE 9110-12-P